DEPARTMENT OF COMMERCE

National Oceanic and Atmospheric Administration

RIN 0648-XB155

Endangered Species; File No. 17095-01

AGENCY: National Marine Fisheries Service (NMFS), National Oceanic and Atmospheric Administration (NOAA), Commerce.

ACTION: Notice, issuance of permit modification.

SUMMARY: Notice is hereby given that Entergy Nuclear Operations Inc., 450 Broadway, Suite 3, Buchanan, NY 10511 [Responsible Party: John Ventosa], has been issued a permit modification to take shortnose sturgeon (Acipenser brevirostrum) and Atlantic sturgeon (Acipenser oxyrinchus oxyrinchus) for purposes of scientific research.

ADDRESSES: The permit modification and related documents are available for review upon written request or by appointment in the following offices:

• Permits, Conservation and Education Division, Office of Protected Resources, NMFS, 1315 East-West Highway, Room 13705, Silver Spring, MD 20910; phone (301) 427-8401; fax (301) 713-0376; and

• Northeast Region, NMFS, 55 Great Republic Drive, Gloucester, MA 01930; phone (978) 281-9328; fax (978) 281-9394.

FOR FURTHER INFORMATION CONTACT: Malcolm Mohead or Colette Cairns, (301) 427-8401.

SUPPLEMENTARY INFORMATION: On January 29, 2013, notice was published in the Federal Register (78 FR 6072) that a request for a scientific research permit modification to take shortnose sturgeon and Atlantic sturgeon had been submitted by the above-named applicant. The requested permit modification has been issued under the authority of the Endangered Species Act of 1973, as amended (ESA; 16 U.S.C. 1531 et seq.) and the regulations governing the taking, importing, and exporting of endangered and threatened species (50 CFR parts 222-226).

Permit No. 17095 currently authorizes the Permit Holder to: Monitor shortnose and Atlantic sturgeon abundance and distribution through the Hudson River Biological Monitoring Program (HRBMP) in the Hudson River from River Mile 0 (Battery Park, Manhattan, NY) to River Mile 152 at Troy Dam (Albany, NY). Researchers are authorized to non-lethally capture, handle, measure, weigh, scan for tags, insert passive integrated transponder and dart tags, photograph, tissue sample, and release up to 82 shortnose sturgeon and 82 Atlantic sturgeon annually. Additionally, researchers are permitted to lethally collect up to 40 shortnose sturgeon and up to 40 Atlantic sturgeon eggs and/or larvae (ELS) annually.

To account for a higher than expected catch per tow sampling performed authorized under Permit No. 17095, the Permit Holder now is authorized to increase the takes of juvenile, sub-adult and/or adult Atlantic sturgeon to 200 fish per year. Takes must not exceed a total of 600 Atlantic sturgeon captured over the permit life. The Permit Holder will also expand the sampling activities for juvenile, sub-adult and adult shortnose sturgeon and Atlantic sturgeon to include upper New York Harbor (~River Mile -2.0). The modification is valid until the permit expires August 28, 2017.

Issuance of this permit, as required by the ESA, was based on a finding that such permit (1) was applied for in good faith, (2) will not operate to the disadvantage of such endangered or threatened species, and (3) is consistent with the purposes and policies set forth in section 2 of the ESA.

Dated: March 18, 2013.
P. Michael Payne,
Chief, Permits and Conservation Division, Office of Protected Resources, National Marine Fisheries Service.

[FR Doc. 2013-06532 Filed 3-20-13; 8:45 am]

BILLING CODE 3510-22-P